DEPARTMENT OF DEFENSE

Office of the Secretary

[Docket ID: DOD-2016-OS-0074]

Proposed Collection; Comment Request

AGENCY: Department of Defense (DoD) Chief Information Officer (CIO), DoD.

ACTION: Notice.

SUMMARY: In compliance with the Paperwork Reduction Act of 1995, the Office of the Department of Defense Chief Information Officer announces a proposed public information collection and seeks public comment on the provisions thereof. Comments are invited on: Whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by August 23, 2016.

ADDRESSES: You may submit comments, identified by docket number and title, by any of the following methods:

• Federal eRulemaking Portal: http://www.regulations.gov. Follow the instructions for submitting comments.

• Mail: Department of Defense, Office of the Deputy Chief Management Officer, Directorate for Oversight and Compliance, 4800 Mark Center Drive, Mailbox #24, Alexandria, VA 22350-1700.

Instructions: All submissions received must include the agency name, docket number and title for this Federal Register document. The general policy for comments and other submissions from members of the public is to make these submissions available for public viewing on the Internet at http://www.regulations.gov as they are received without change, including any personal identifiers or contact information.

Any associated form(s) for this collection may be located within this same electronic docket and downloaded for review/testing. Follow the instructions at http://www.regulations.gov for submitting comments. Please submit comments on any given form identified by docket number, form number, and title.

FOR FURTHER INFORMATION CONTACT: To request more information on this proposed information collection or to obtain a copy of the proposal and associated collection instruments, please write to the Office of the DoD Chief Information Officer 4800 Mark Center Drive, East Tower, Suite 11E08, Alexandria VA 22350-1900.

SUPPLEMENTARY INFORMATION:

Title; Associated Form; and OMB Number: Information Assurance Scholarship Program; OMB Control Number 0704-0486.

Needs and Uses: The National Security Agency (NSA) is the Executive Administrator of the DoD Information Assurance Scholarship Program (IASP), serving on behalf of the DoD Chief Information Officer. Those who wish to participate in the DoD IASP Recruitment program must complete and submit an application package through their college or university to NSA. Centers of Academic Excellence in Cyber Defense (CAEs) interested in applying for capacity-building grants must complete and submit a written proposal, and all colleges and universities subsequently receiving grants must provide documentation on how the grant funding was utilized and the resulting accomplishments. Without this written documentation, the DoD has no means of judging the quality of applicants to the program or collecting information regarding program performance. In addition, the DoD IASP participants and their faculty advisors (Principal Investigators) are asked to complete annual program assessments. These assessments are collectively reviewed to evaluate the program's effectiveness from the perspective of the students and Principal Investigators. The assessment information is used to improve the program in subsequent years. The estimated burden is based on a typical funding profile for this scholarship program. The actual burden may be less, based on available funding.

Affected Public: Individuals or households; not-for-profit institutions.

Annual Burden Hours: 2,166.

Number of Respondents: 361.

Responses per Respondent: 2.

Annual Responses: 722.

Average Burden per Response: 3 hours.

Frequency: Annually.

Respondents to the scholarship information collection are applicants who provide academic records and professional experience summaries to the NSA for the IASP scholar selection process. Respondents to the grants information collection are Principal Investigators at colleges and universities designated as Centers of Academic Excellence (CAE) participating in the IASP who provide proposals for capacity building initiatives supporting the expansion of cyber-related degree programs at their CAE. The DoD IASP is designed to: Increase the number of new college graduate entrants to DoD who possess key cybersecurity skill sets; serve as a tool to develop and retain well-educated military and civilian personnel who support the Department's cyberspace mission including cutting edge research and development; and serve as a mechanism to build the nation's cyber infrastructure through grants to colleges and universities designated as CAEs by the NSA and the Department of Homeland Security. In addition, respondents to the annual program assessment survey provide feedback on the program, including suggestions for improvements and changes that can be incorporated to make the grants IASP information collection process stronger and more efficient.

Dated: June 20, 2016.
Aaron Siegel,
Alternate OSD Federal Register Liaison Officer, Department of Defense.

[FR Doc. 2016-14898 Filed 6-23-16; 8:45 am]

BILLING CODE 5001-06-P